DEPARTMENT OF ENERGY

Federal Energy Regulatory Commission

Combined Notice of Filings #1

Take notice that the Commission received the following exempt wholesale generator filings:

Docket Numbers: EG16-106-000.

Applicants: 63SU 8ME LLC.

Description: Self-Certification of Exempt Wholesale Generator Status of 63SU 8ME LLC.

Filed Date: 5/23/16.

Accession Number: 20160523-5133.

Comments Due: 5 p.m. ET 6/13/16.

Take notice that the Commission received the following electric rate filings:

Docket Numbers: ER16-604-001.

Applicants: Nevada Power Company.

Description: Compliance filing: Market-Based Rate Tariff, Volume 11 NPC to be effective 12/1/2015.

Filed Date: 5/23/16.

Accession Number: 20160523-5157.

Comments Due: 5 p.m. ET 6/13/16.

Docket Numbers: ER16-605-001.

Applicants: Sierra Pacific Power Company.

Description: Compliance filing: Market-Based Rate Tariff Volume No. 7 SPPC to be effective 12/1/2015.

Filed Date: 5/23/16.

Accession Number: 20160523-5158.

Comments Due: 5 p.m. ET 6/13/16.

Docket Numbers: ER16-1148-000.

Applicants: Tenaska Energía de Mexico, S. de R.L. de C.V.

Description: Second Supplement to March 11, 2016 Tenaska Energía de Mexico, S. de R.L. de C.V. tariff filing.

Filed Date: 5/20/16.

Accession Number: 20160520-5178.

Comments Due: 5 p.m. ET 5/31/16.

Docket Numbers: ER16-1333-001.

Applicants: Midcontinent Independent System Operator, Inc., WPPI Energy.

Description: Tariff Amendment: 2016-05-23_WPPI ATRR Recovery Filing Amendment to be effective 6/1/2016.

Filed Date: 5/23/16.

Accession Number: 20160523-5117.

Comments Due: 5 p.m. ET 6/13/16.

Docket Numbers: ER16-1755-000.

Applicants: CID Solar, LLC.

Description: Compliance filing: Comp. Filing—Amendment to MBR Tariff to Category 1 to be effective 5/21/2016.

Filed Date: 5/20/16.

Accession Number: 20160520-5171.

Comments Due: 5 p.m. ET 6/10/16.

Docket Numbers: ER16-1756-000.

Applicants: PJM Interconnection, LLC.

Description: § 205(d) Rate Filing: Revisions to OATT Attachment L to add ITCI as a Transmission Owner to be effective 6/1/2016.

Filed Date: 5/19/16.

Accession Number: 20160519-5243.

Comments Due: 5 p.m. ET 6/9/16.

Docket Numbers: ER16-1757-000.

Applicants: Grant Wind, LLC.

Description: § 205(d) Rate Filing: Grant Wind Tariff Amendment Filing to be effective 5/24/2016.

Filed Date: 5/23/16.

Accession Number: 20160523-5101.

Comments Due: 5 p.m. ET 6/13/16.

Docket Numbers: ER16-1758-000.

Applicants: Midcontinent Independent System Operator, Inc.

Description: § 205(d) Rate Filing: 2016-05-23_Filing to revise SSR tariff provisions to be effective 8/22/2016.

Filed Date: 5/23/16.

Accession Number: 20160523-5114.

Comments Due: 5 p.m. ET 6/13/16.

Docket Numbers: ER16-1759-000.

Applicants: Cottonwood Solar, LLC.

Description: Compliance filing: Comp. Filing—Amendment to MBR Tariff to Category 1 Seller to be effective 5/24/2016.

Filed Date: 5/23/16.

Accession Number: 20160523-5148.

Comments Due: 5 p.m. ET 6/13/16.

Docket Numbers: ER16-1760-000.

Applicants: Armstrong Power, LLC.

Description: Compliance filing: Database Migration and Request for Administrative Cancellation to be effective 5/24/2016.

Filed Date: 5/23/16.

Accession Number: 20160523-5149.

Comments Due: 5 p.m. ET 6/13/16.

Docket Numbers: ER16-1761-000.

Applicants: Calumet Energy Team, LLC.

Description: Compliance filing: Database Migration and Request for Administrative Cancellation to be effective 5/24/2016.

Filed Date: 5/23/16.

Accession Number: 20160523-5150.

Comments Due: 5 p.m. ET 6/13/16.

Docket Numbers: ER16-1762-000.

Applicants: Northeastern Power Company.

Description: Compliance filing: Database Migration and Request for Administrative Cancellation to be effective 5/24/2016.

Filed Date: 5/23/16.

Accession Number: 20160523-5151.

Comments Due: 5 p.m. ET 6/13/16.

Docket Numbers: ER16-1763-000.

Applicants: Pleasants Energy, LLC.

Description: Compliance filing: Database Migration and Request for Administrative Cancellation to be effective 5/24/2016.

Filed Date: 5/23/16.

Accession Number: 20160523-5152.

Comments Due: 5 p.m. ET 6/13/16.

Docket Numbers: ER16-1764-000.

Applicants: Troy Energy, LLC.

Description: Compliance filing: Database Migration and Request for Administrative Cancellation to be effective 5/24/2016.

Filed Date: 5/23/16.

Accession Number: 20160523-5153.

Comments Due: 5 p.m. ET 6/13/16.

Take notice that the Commission received the following qualifying facility filings:

Docket Numbers: QF16-832-000.

Applicants: Groton Fuel Cell 1, LLC.

Description: Form 556 of Groton Fuel Cell 1, LLC.

Filed Date: 5/19/16.

Accession Number: 20160519-5238.

Comments Due: None Applicable.

Docket Numbers: QF16-833-000.

Applicants: SRJFC, LLC.

Description: Form 556 of SRJFC, LLC.

Filed Date: 5/19/16.

Accession Number: 20160519-5240.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 23, 2016.
Nathaniel J. Davis, Sr.,
Deputy Secretary.

[FR Doc. 2016-12765 Filed 5-31-16; 8:45 am]

BILLING CODE 6717-01-P